DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act requires that public notice of this meeting be announced in the Federal Register.

DATES:

Monday, September 25, 2017, 1:00 p.m.-4:45 p.m.

Tuesday, September 26, 2017, 9:00 a.m.-4:45 p.m.

ADDRESSES: Courtyard Historic Charleston, 125 Calhoun Street, Charleston, SC 29401.

FOR FURTHER INFORMATION CONTACT: Susan Clizbe, Office of External Affairs, Department of Energy, Savannah River Operations Office, P.O. Box A, Aiken, SC 29802; Phone: (803) 952-8281.

SUPPLEMENTARY INFORMATION:

Purpose of the Board: The purpose of the Board is to make recommendations to DOE-EM and site management in the areas of environmental restoration, waste management, and related activities.

Tentative Agenda

Monday, September 25, 2017

Opening, Chair Update, and Agenda Review

Agency Updates

Break

Administrative & Outreach Committee Update

Facilities Disposition & Site Remediation Committee Update

Nuclear Materials Committee Update

Strategic & Legacy Management Committee Update

Waste Management Committee Update

Draft Recommendation Discussion

Public Comments

Recess

Tuesday, September 26, 2017

Reconvene

Agenda Review

Presentations:

• Mercury in the Liquid Waste System

• State Oversight of Cleanup

• Final Approved Federal Facility Agreement Appendix E

Lunch Break

Presentations:

• Budget Update

• Glass Waste Storage Status

• Savannah River National Laboratory Annual Update

Break

Presentation: Federal Advisory Committee Act

Public Comments

Recommendations Voting

Adjourn

Public Participation: The EM SSAB, Savannah River Site, welcomes the attendance of the public at its advisory committee meetings and will make every effort to accommodate persons with physical disabilities or special needs. If you require special accommodations due to a disability, please contact Susan Clizbe at least seven days in advance of the meeting at the phone number listed above. Written statements may be filed with the Board either before or after the meeting. Individuals who wish to make oral statements pertaining to agenda items should contact Susan Clizbe's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Susan Clizbe at the address or phone number listed above. Minutes will also be available at the following Web site: http://cab.srs.gov/srs-cab.html.

Issued at Washington, DC, on August 31, 2017.
LaTanya R. Butler,
Deputy Committee Management Officer.

[FR Doc. 2017-19098 Filed 9-8-17; 8:45 am]

BILLING CODE 6450-01-P